DEPARTMENT OF ENERGY

[96-77-NG, 14-66-NG, 14-68-LNG, et al.]

Orders Granting Authority To Import and Export Natural Gas, To Import and Export Liquefied Natural Gas, Vacating Prior Authority and Approving Change in Control of Authorization Allowing Exports of Liquefied Natural Gas During July 2014

| FE Docket Nos.
GAZ METROPOLITAIN AND COMPANY LIMITED PARTNERSHIP | 96-77-NG
DEVON CANADA MARKETING CORPORATION | 13-143-NG
NEXEN ENERGY MARKETING U.S.A. INC | 14-66-NG
CHEVRON U.S.A. INC | 14-68-LNG
MARATHON OIL COMPANY | 14-69-NG
SEMPRA LNG MARKETING, LLC | 14-74-LNG
SUMMITT ENERGY LP | 14-75-NG
J. ARON & COMPANY | 14-76-NG
UNION GAS LIMITED | 14-77-NG
BP ENERGY COMPANY | 14-78-LNG
ST. LAWRENCE GAS COMPANY, INC | 14-81-NG
BP CANADA ENERGY MARKETING CORP | 14-82-NG
STABILIS ENERGY SERVICES LLC | 14-84-LNG
ANNOVA LNG COMMON INFRASTRUCTURE, LLC (for 13-140-LNG) | 14-004-CIC
LNG DEVELOPMENT COMPANY, LLC (d/b/a OREGON LNG) | 12-77-LNG

AGENCY: Office of Fossil Energy, Department of Energy.

ACTION: Notice of orders.

SUMMARY: The Office of Fossil Energy (FE) of the Department of Energy gives notice that during July 2014, it issued orders granting authority to import and export natural gas, to import and export liquefied natural gas, vacating prior authority, and approving change in control of authorization allowing exports of liquefied natural gas. These orders are summarized in the attached appendix and may be found on the FE Web site at http://www.fossil.energy.gov/programs/gasregulation/authorizations/Orders-2014.html. They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on September 29, 2014.
John A. Anderson,
Director, Division of Natural Gas Regulatory Activities, Office of Oil and Gas Global Security and Supply, Office of Oil and Natural Gas.

Appendix

DOE/FE Orders Granting Import/Export Authorizations
1213-A | 07/03/14 | 96-77-NG | Gaz Metropolitain and Company Limited Partnership | Order vacating authority to import natural gas from Canada.
3375-A | 07/03/14 | 13-143-NG | Devon Canada Marketing Corporation | Order vacating authority to import natural gas from Canada.
3453 | 07/03/14 | 14-66-NG | Nexen Energy Marketing U.S.A. Inc | Order granting blanket authority to import/export natural gas from/to Canada/Mexico.
3454 | 07/03/14 | 14-68-LNG | Chevron U.S.A. Inc | Order granting blanket authority to import LNG from various international sources by vessel.
3455 | 07/03/14 | 14-69-NG | Marathon Oil Company | Order granting blanket authority to import/export natural gas from/to Canada/Mexico.
3456 | 07/03/14 | 14-74-LNG | Sempra LNG Marketing, LLC | Order granting blanket authority to import LNG from various international sources by vessel.
3457 | 07/03/14 | 14-75-NG | Summitt Energy LP | Order granting blanket authority to import/export natural gas from/to Canada.
3458 | 07/03/14 | 14-76-NG | J. Aron & Company | Order granting blanket authority to import/export natural gas from/to Canada.
3459 | 07/03/14 | 14-77-NG | Union Gas Limited | Order granting blanket authority to import/export natural gas from/to Canada.
3460 | 07/10/14 | 14-78-LNG | BP Energy Company | Order granting blanket authority to import LNG from various international sources by vessel.
3461 | 07/10/14 | 14-81-NG | St. Lawrence Gas Company, Inc | Order granting blanket authority to import natural gas from Canada.
3462 | 07/10/14 | 14-82-NG | BP Canada Energy Marketing Corp | Order granting blanket authority to import/export natural gas from/to Canada.
3463 | 07/25/14 | 14-84-LNG | Stabilis Energy Services LLC | Order granting blanket authority to import/export LNG from/to Canada/Mexico by truck, rail, barge, and non-barge vessels.
3464 | 07/17/14 | 14-004-CIC for 13-140-LNG | Annova LNG Common Infrastructure, LLC | Order approving Change in Control to Annova LNG Common Infrastructure, LLC of authorization allowing exports of LNG to Free Trade Agreement nations.
3465 | 07/31/14 | 12-77-LNG | LNG Development Company, LLC (d/b/a Oregon LNG) | Order conditionally granting long-term Multi-Contract authority to export LNG by vessel from the Oregon LNG Terminal in Warrenton, Clatsop County, Oregon to Non-free Trade Agreement nations.

[FR Doc. 2014-24131 Filed 10-9-14; 8:45 am]

BILLING CODE 6450-01-P